DEPARTMENT OF JUSTICE

Antitrust Division

Notice Pursuant to the National Cooperative Research and Production Act of 1993—National Center for Manufacturing Sciences, Inc.

Notice is hereby given that, on January 17, 2006, pursuant to Section 6(a) of the National Cooperative Research and Production Act of 1993, 15 U.S.C. 4301 et seq. (“the Act”), National Center for Manufacturing Sciences, Inc. (“NCMS”) has filed written notifications simultaneously with the Attorney General and the Federal Trade Commission disclosing changes in its membership. The notifications were filed for the purpose of extending the Act's provisions limiting the recovery of antitrust plaintiffs to actual damages under specified circumstances. Specifically, ASTRA, The Alliance for Science & Technology Research in America, Washington, DC; Cabot Corporation, Albuquerque, NM; Centerline (Windsor) Limited, Windsor, Ontario, Canada; Control Gaging, Inc., Ann Arbor, MI; DEKA Research & Development Corporation, Manchester, NH; GFM GmbH, North Richland Hills, TX; Intrepid Solutions, LLP, The Woodlands, TX; Millennium Cell Inc., Eatontown, NJ; MTI Micro Fuel Cells Inc., Albany, NY; Parker Emerging Technology Segment, New Britain, CT; Proto Manufacturing Inc., Ypsilanti, MI; Protonex Technology Corporation, Southborough, MA; Pukoa Scientific, LLC, Oviedo, FL; and VCD Technologies, LLC, San Dimas, CA have been added as parties to this venture. Also, The Aerostructures Corporation, Nashville, TN; ComauPico, Southfield, MI; CTA Inc., Madison, AL; Cubic Systems, Inc., Ann Arbor, MI; Fidelis Security Systems, Inc., Bethesda, MD; Goodrich Aerostructures Group, Chula Vista, CA; Intel Corporation, Santa Clara, CA; MicroFab Technologies, Inc., Plano, TX; Parker Technologies International, Inc., Warrenville, IL; Toolmen Corporation, Round Rock, TX; University of Arkansas, Fayetteville, AR; and University of Tennessee, Tullahoma, TN have withdrawn as parties to this venture.

In addition, Unigraphics Solutions, Inc. has changed its name to UGS Corp., Plymouth Meeting, PA.

No other changes have been made in either the membership or planned activity of the group research project. Membership in this group research project remains open, and NCMS intends to file additional written notification disclosing all changes in membership.

On February 20, 1987, NCMS filed its original notification pursuant to Section 6(a) of the Act. The Department of Justice published a notice in the Federal Register pursuant to Section 6(b) of the Act on March 17, 1987 (52 FR 8375).

The last notification was filed with the Department of Justice on October 19, 2005. A notice was published in the Federal Register pursuant to Section 6(b) of the Act on November 28, 2005 (70 FR 71332).

Dorothy B. Fountain,
Deputy Director of Operations, Antitrust Division.

[FR Doc. 06-1168 Filed 2-7-06; 8:45 am]

BILLING CODE 4410-11-M